DEPARTMENT OF AGRICULTURE

Agricultural Research Service

Notice of Intent To Seek Reinstatement of an Information Collection

AGENCY: Agricultural Research Service, USDA.

ACTION: Notice and request for comments.

SUMMARY: The notice to seek comment on the Agricultural Research Services (ARS) intent to seek approval from OMB to reinstatement the ARS Animal Health National Program Assessment Survey was published in the Federal Register on August 6, 2009. The document contained the wrong date for public comment.

FOR FURTHER INFORMATION CONTACT: Dr. Cyril G. Gay, 301-504-4786.

Correction

In the Federal Register of August 6, 2009, in FR Doc. E9-18848, on page 1501, in the Dates column, correct section to read as follows:

DATES: Comments must be submitted on or before October 9, 2009.

Dated: October 5, 2009.
Yvette Anderson,
Federal Register Liaison Officer for Agriculture Research Service.

[FR Doc. E9-24375 Filed 10-8-09; 8:45 am]

BILLING CODE P